FEDERAL MARITIME COMMISSION

Notice of Request for Additional Information

The Commission gives notice that it has requested that the parties to the below listed agreements provide additional information pursuant to section 6(d) of the Shipping Act of 1984, 46 U.S.C. app. 1701 et seq. The Commission has determined that further information is necessary to evaluate the agreements. This action prevents the agreements from becoming effective as originally scheduled.

Agreement No.: 011804.

Title: Eastern Car Liner/Fesco Ocean Management Ltd. Space Charter Agreement.

Parties: Eastern Car Liner, Ltd., Fesco Ocean Management Limited.

Agreement No.: 011807.

Title: SNL/HASCO Cross Space Charter and Sailing Agreement.

Parties: Sinotrans Container Line Co., Ltd., Shanghai Hai Hua Shipping Co., Ltd.

By Order of the Federal Maritime Commission.
Dated: June 28, 2002.
Bryant L. VanBrakle,
Secretary.

[FR Doc. 02-16804 Filed 7-3-02; 8:45 am]

BILLING CODE 6730-01-P